DEPARTMENT OF THE INTERIOR

Bureau of Indian Affairs

Advisory Board for Exceptional Children

AGENCY: Bureau of Indian Education, Interior.

ACTION: Notice of meeting.

SUMMARY: In accordance with the Federal Advisory Committee Act, the Bureau of Indian Education is announcing that the Advisory Board for Exceptional Children will hold its next meeting in Denver, CO. The purpose of the meeting is to meet the mandates of the Individuals with Disabilities Education Improvement Act of 2004 (IDEIA) on Indian children with disabilities.

DATES: The meeting dates are:

1. Saturday, July 21, 2007, from 6 p.m. to 8:30 p.m.;

2. Sunday, July 22, 2007, 8 a.m. to 5 p.m.;

3. Monday, July 23, 2007, 8 a.m. to 5 p.m.; and

4. Tuesday, July 24, 2007, 6 p.m. to 9 p.m. Local Time.

ADDRESSES: The meetings will be held at the Renaissance Denver Hotel, 3801 Quebec St., Denver, CO 80207.

Written statements may be submitted to Mr. Thomas M. Dowd, Director, Bureau of Indian Education, 1849 C Street, NW., MS 3609-MIB, Washington, DC 20240; Telephone (202) 208-6123; Fax (202) 208-3312.

FOR FURTHER INFORMATION CONTACT: Dr. Sherry Allison, Designated Federal Official, Bureau of Indian Education, Albuquerque Service Center, Division of Performance and Accountability, P.O. Box 1088, Suite 332, Albuquerque, NM 87103; Telephone (505) 563-5277.

SUPPLEMENTARY INFORMATION: The Advisory Board was established to advise the Secretary of the Interior, through the Assistant Secretary—Indian Affairs, on the needs of Indian children with disabilities, as mandated by the Individuals with Disabilities Education Improvement Act of 2004 (Pub. L. 108-446).

The following items will be on the agenda:

• Special Education Director's Report.

• BIE Data Summit Report.

• Committee Work.

• Acting Chief, Albuquerque Service Center Report.

• BIE Level of Determination.

The meetings are open to the public.

Dated: June 18, 2007.
Carl J. Artman,
Assistant Secretary—Indian Affairs.

[FR Doc. E7-12493 Filed 6-27-07; 8:45 am]

BILLING CODE 4310-6W-P